DEPARTMENT OF DEFENSE

Department of the Army, Corps of Engineers

Notice of Intent To Prepare a Joint Environmental Impact Statement/Environmental Impact Report for the Proposed Lower Elkhorn Basin Levee Setback Project, Yolo County, CA

AGENCY: Department of the Army, U.S. Army Corps of Engineers, DoD.

ACTION: Notice of intent.

SUMMARY: The U.S. Army Corps of Engineers (USACE), Sacramento District, as the lead agency under the National Environmental Policy Act (NEPA), and the California Department of Water Resources (DWR), as the lead agency under the California Environmental Quality Act (CEQA), will prepare a joint Environmental Impact Statement/Environmental Impact Report (EIS/EIR) for the Lower Elkhorn Setback Levee Project. DWR is the project proponent and may be referred to as the Applicant or Requester.

The EIS/EIR will analyze DWR's proposed action to implement a flood risk management project in the Lower Elkhorn Basin in Yolo County, California. Because the proposed action would alter Federal levees, permission from USACE is required under Section 14 of the Rivers and Harbors Act (Section 408) (33 U.S.C. 408). The proposed action would also affect waters of the United States and require a permit from USACE under Section 404 of the Clean Water Act (33 U.S.C. 1344).

DATES: Submit written comments by October 7, 2016.

ADDRESSES: Written comments and suggestions concerning the scope and content of the environmental information may be submitted to Mr. Tyler Stalker, email at spk-pao@usace.army.mil; or surface mail at U.S. Army Corps of Engineers, Sacramento District, Attn: Public Affairs Office (CESPK-PAO), 1325 J Street, Sacramento, CA 95814-2922. Requests to be placed on the electronic or surface mail notification lists should also be sent to this address.

FOR FURTHER INFORMATION CONTACT: Ms. Tanis Toland at (916) 557-6717, or by email at tanis.j.toland@usace.army.mil.

SUPPLEMENTARY INFORMATION:

1. Proposed Action. The proposed Lower Elkhorn Basin Levee Setback Project would include levee setbacks to widen portions of the Yolo and Sacramento Bypasses to increase conveyance capacity and reduce flood risk. The project would be part of a series of proposed flood risk management improvements contemplated under DWR's Central Valley Flood Protection Plan and its related Sacramento Basin-Wide Feasibility Report. The project is located in Yolo County and is bounded by the Sacramento River on the east, the Tule Canal and Yolo Bypass on the west, the Sacramento Bypass on the south, and Interstate 5 on the north. The project would include the following elements: (1) Widening the Yolo Bypass by constructing a setback levee east of the Tule Canal in the Lower Elkhorn Basin, (2) widening the Sacramento Bypass by constructing a setback levee north of the existing levee, and (3) implementing improvements in the Lower Elkhorn Basin and Sacramento Bypass to mitigate project impacts. Widening of the Sacramento Bypass, per number (2) of the Proposed Action, is also a recommended feature of the American River Common Features GRR, for which a general reevaluation was completed in 2016, although it is not yet congressionally authorized. The proposed Lower Elkhorn Basin Levee Setback Project is not intended to duplicate this recommended feature, rather it offers DWR a potential alternative means to construct this key feature should the project not be authorized prior to USACE's decision on DWR's request under Section 408.

2. Alternatives. A number of project alternatives, including the no action alternative and the Requester's/Applicant's preferred alternative will be evaluated in the EIS/EIR in accordance with NEPA (33 CFR part 230 (USACE NEPA Regulations) and 33 CFR part 325, Appendix B (NEPA Implementation Procedures for USACE Regulatory Projects).

3. Scoping Process.

a. A public scoping meeting will be held on Thursday, September 15, 2016, from 4:00 p.m. to 7:00 p.m., West Sacramento Civic Center, 1110 West Capitol Avenue, West Sacramento, CA 95691 to present information to the public and to receive comments from the public on the project and the scope of the environmental analysis. Affected Federal, State, regional, and local agencies; Native American Tribes; other interested private organizations; and the general public are invited to participate.

b. The EIS/EIR will analyze the environmental effects of construction, operations, and maintenance of the project. Potentially significant issues to be analyzed in depth include loss of waters of the United States (including wetlands), cultural resources, biological resources, special status species, air quality, hydrology and water quality, land use, Prime and Unique Farmlands, noise, traffic, aesthetics, utilities and service systems, and socioeconomic effects.

c. USACE will consult with the State Historic Preservation Officer and with Native American Tribes to comply with the National Historic Preservation Act, and with the U.S. Fish and Wildlife Service and National Marine Fisheries Service to comply with the Endangered Species Act. USACE will also coordinate with the U.S. Fish and Wildlife Service to comply with the Fish and Wildlife Coordination Act.

d. A 45-day NEPA public review period will be provided for all interested parties, individuals, and agencies to review and comment on the draft EIS/EIR. All interested parties are encouraged to respond to this notice and provide a current address if they wish to be notified of the draft EIS/EIR circulation.

4. Availability. The draft EIS/EIR is scheduled to be available for public review and comment in November 2017.

Dated: August 28, 2016.
David G. Ray,
Colonel, U.S. Army, District Commander.

[FR Doc. 2016-21578 Filed 9-7-16; 8:45 am]

BILLING CODE 3720-58-P